DEPARTMENT OF DEFENSE

Department of the Air Force

[Docket ID USAF-2020-HQ-0012]

Submission for OMB Review; Comment Request

AGENCY: Secretary of the Air Force, DoD.

ACTION: 30-day information collection notice.

SUMMARY: The Department of Defense has submitted to OMB for clearance the following proposal for collection of information under the provisions of the Paperwork Reduction Act.

DATES: Consideration will be given to all comments received by March 6, 2020.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: Military Working Dog Adoption Application; DD Form 810-7; OMB Control Number 0701-XXXX.

Type of Request: Extension.

Number of Respondents: 200.

Responses per Respondent: 1.

Annual Responses: 200.

Average Burden per Response: 1 hour.

Annual Burden Hours: 200 hours.

Needs and Uses: This form will be used to assess the suitability of US citizens and local and state law enforcement agencies to adopt Department of Defense Military Working Dogs, as outlined in DoDI 5200.31E, Title 10 United States Code § 2583, and AFI 31-126. The information is needed to determine if individuals voluntarily submitting the adoption application are suitable adopters for Military Working Dogs, based on the best interests of the Military Working Dog. The information will be used to contact applicants and to interview, screen and select applicants for voluntary adoption.

Affected Public: Individuals or Households; State, Local, or Tribal Government.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: January 31, 2020.
Morgan E. Park,
Alternate OSD Federal Register Liaison Officer, Department of Defense.

[FR Doc. 2020-02211 Filed 2-4-20; 8:45 am]

BILLING CODE 5001-06-P